ENVIRONMENTAL PROTECTION AGENCY

[ER-FRL-6692-5]

Environmental Impacts Statements; Notice of Availability

Responsible Agency: Office of Federal Activities, General Information (202) 564-7167 or http://www.epa.gov/compliance/nepa/.

Weekly receipt of Environmental Impact Statements.

Filed 10/22/2007 through 10/26/2007.

Pursuant to 40 CFR 1506.9.

EIS No. 20070452, Draft EIS, BLM, CO, Canyons of the Ancients National Monument Resource Management Plan, To Address Future Management Options for Approximately 165.00 Acres of Land, Dolores and Montezuma Counties, CO, Comment Period Ends: 01/25/2008, Contact: Heather Muselow 970-882-5600.

EIS No. 20070453, Draft EIS, BLM, UT, Monticello Field Office Resource Management Plan, To Guide the Management of Public Land, Southern two-third of San Juan County and small portion on the Northern boundary within Grand County, UT, Comment Period Ends: 01/30/2008, Contact: Gary Torres 435-587-1524.

EIS No. 20070454, Draft EIS, BIA, WY, Riverton Dome coal Bed Natural Gas (CBNG) and Conventional Gas Development Project, Construction of Well Pads, Roads, Pipelines, and Production Facilities, Wind River Indian Reservation (WEIR), Fremont Count, WY, Comment Period Ends: 01/02/2008, Contact: Ray Nation 307-332-3718.

EIS No. 20070455, Draft EIS, SFW, CA, Coyote Spring Investment Multi species Conservation Plan, Issuing a 40-year Incidental Take Permit for Five Species, Clark and Lincoln Counties, CA, Comment Period Ends: 01/02/2008, Contact: Mary Grim 916-414-6464.

EIS No. 20070456, Final EIS, DOE, PA, Gilbert on Coal-to-Clean Fuels and Power Project, Construction and Operation a New Demonstration Plant, Preferred Alternative Selected, Schuylkill County, PA, Wait Period Ends: 12/03/2007, Contact: Janice L. Bell 1-866-576-8240.

EIS No. 20070457, Final EIS, UAF, MA, Final Recommendations and Associated Actions for the 104th Fighter Wing Massachusetts Air National Guard, Base Realignment and Closure, Implementation, Westfield-Barnes Airport, Westfield, MA, Wait Period Ends: 12/03/2007, Contact: Robert Dogan 301-836-8859.

EIS No. 20070458, Final EIS, FHW, CT, CT 82/85/11 Corridor Transportation Improvements, Selected Preferred Alternative, is a Modification of Alternative 4(E), Funding and COE Section 404 Permit, In the Towns of Salem, Montville, East Lyme and Waterford, CT, Wait Period Ends: 12/03/2007, Contact: Bradley D. Keazer 860-659-6703 Ext. 3009.

EIS No. 20070459, Final EIS, FRC, SC, Santee Cooper Hydroelectric Project (FERC. No. 199), Relicensing for Existing 130-megawatt (MW), Santee and Cooper Rivers, Berkeley, Calhoun, Clarendon, Orangeburg and Sumter Counties, SC, Wait Period Ends: 12/03/2007, Contact: Monte Terhaar 202-502-6035.

EIS No. 20070460, Final EIS, FRC, WI, Guardian Expansion and Extension Project, Construction and Operation Natural Gas Pipeline Facilities, Jefferson, Dodge, Fond du Lac, Calument, Brown, Walworth, Outagamie Counties, WI, Wait Period Ends: 12/03/2007, Contact: Andy Black 1-866-208-3372.

EIS No. 20070461, Final EIS, IBR, 00, Colorado River Interim Guidelines for Lower Basin Shortages and Coordinated Operations for Lake Powell and Lake Mead, Implementation, Colorado River, CO and CA, Wait Period Ends: 12/03/2007, Contact: Nan Yoder 702-595-9851.

EIS No. 20070462, Final EIS, MMS, 00, Eastern Planning Area Outer Continental Shelf (OCS) Oil and Gas Lease Sale 224, Gulf of Mexico Offshore Marine Environment and Coastal Parshes/Counties of LA, MS, AL, and North Western Florida, Wait Period Ends: 12/03/2007, Contact: Dr. Sally Valdes 703-787-1707.

EIS No. 20070463, Draft EIS, CGD/MARAD, FL, Calypso Liquefied Natural Gas (LNG) Deepwater Port License Application, Proposes to Own, Construct, and Operate a Deepwater Port, Outer Continental Shelf (OCS) in the OCS NG 17-06 (Bahamas) Lease Area, 8 to 10 miles off the East Coast of Florida to the Northeast of Port Everglades, FL, Comment Period Ends: 12/17/2007, Contact: Mary Kate Jager 202-372-1454.

Amended Notices

EIS No. 20070385, Draft EIS, FHW, 00, Peace Bridge Expansion Project, Capacity Improvements to the Peace Bridge, Plazas and Connecting Roadways, U.S. Coast Guard Bridge Permit, U.S. Army COE Section 10 and 404 Permits. City of Buffalo, Erie County, NY and Town of Fort Erie, Ontario, Canada, Comment Period Ends: 11/13/2007, Contact: Amy Jackson-Grove 518-431-4131.

Revision of Fr Notice Published 09/14/2007: Extending Comment Period from 10/29/2007 to 11/13/2007.

Dated: October 30, 2007.
Ken Mittelholtz,
Environmental Protection Specialist, Office of Federal Activities.

[FR Doc. E7-21590 Filed 11-1-07; 8:45 am]

BILLING CODE 6560-50-P